NUCLEAR REGULATORY COMMISSION

[Docket No. NRC-2010-0142]

Agency Information Collection Activities: Proposed Collection; Comment Request

AGENCY: Nuclear Regulatory Commission (NRC).

ACTION: Notice of pending NRC action to submit an information collection request to the Office of Management and Budget (OMB) and solicitation of public comment.

SUMMARY: The NRC invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: NRC Form 212 “Qualifications Investigation, Professional, Technical, and Administrative Positions”, and NRC Form 212A “Qualifications Investigation Secretarial/Clerical”

2. Current OMB approval number: 3150-0033 and 3150-0034.

3. How often the collection is required: The form(s) are collected for every new hire to the U.S. Nuclear Regulatory Commission.

4. Who is required or asked to report: References are collected for every new hire.

5. The number of annual respondents: NRC Form 212: 1,000 annual respondents. NRC Form 212A: 400 annual respondents.

6. The number of hours needed annually to complete the requirement or request: NRC Form 212: 250 hours. NRC Form 212A: 100 hours.

7. Abstract: Information requested on NRC Form 212, “Qualifications Investigation, Professional, Technical, and Administrative Positions (other than clerical positions)” and NRC Form 212A, “Qualifications Investigation, Secretarial/Clerical” is used to determine the qualifications and suitability of external applicants for employment with NRC. The completed forms may be used to examine, rate and/or assess the prospective employee's qualifications. The information regarding the qualifications of applicants for employment is reviewed by professional personnel of the Office of Human Resources, in conjunction with other information in the NRC files, to determine the qualifications of the applicant for appointment to the position under consideration.

Submit, by June 4, 2010, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice. Comments submitted in writing or in electronic form will be made available for public inspection. Because your comments will not be edited to remove any identifying or contact information, the NRC cautions you against including any information in your submission that you do not want to be publicly disclosed. Comments submitted should reference Docket No. NRC-2010-0142. You may submit your comments by any of the following methods. Electronic comments: Go to http://www.regulations.gov and search for Docket No. NRC-2010-0142. Mail comments to NRC Clearance Officer, Tremaine Donnell (T-5 F53), U.S. Nuclear Regulatory Commission, Washington, DC 20555-0001. Questions about the information collection requirements may be directed to the NRC Clearance Officer, Tremaine Donnell (T-5 F53), U.S. Nuclear Regulatory Commission, Washington, DC 20555-0001, by telephone at 301-415-6258, or by e-mail to INFOCOLLECTS.Resource@NRC.GOV.

Dated at Rockville, Maryland, this 25th day of March 2010.
For the Nuclear Regulatory Commission.
Tremaine Donnell,
NRC Clearance Officer, Office of Information Services.

[FR Doc. 2010-7603 Filed 4-2-10; 8:45 am]

BILLING CODE 7590-01-P